SECURITIES AND EXCHANGE COMMISSION

Sunshine Act Meetings

TIME AND DATE: Notice is hereby given, pursuant to the provisions of the Government in the Sunshine Act, Public Law 94-409, that the Securities and Exchange Commission will hold an Open Meeting on Wednesday, February 15, 2023 at 10:00 a.m.

PLACE: The meeting will be webcast on the Commission's website at www.sec.gov.

STATUS: The meeting will begin at 10:00 a.m. (ET) and will be open to the public via webcast on the Commission's website at www.sec.gov.

MATTERS TO BE CONSIDERED:

1. The Commission will consider whether to adopt rules and rule amendments under the Securities Exchange Act of 1934 to shorten the standard settlement cycle for most securities transactions. The proposed rules and rule amendments would be applicable to broker-dealers and certain clearing agencies. The Commission also will consider whether to adopt rule amendments under the Investment Advisers Act of 1940 to require investment advisers to maintain certain related records.

2. The Commission will consider whether to propose to amend and redesignate rule 206(4)-2 under the Investment Advisers Act of 1940 (“Advisers Act”) related to the safeguarding of client assets. The Commission also will consider proposing corresponding amendments to the investment adviser recordkeeping rule and to Form ADV under the Advisers Act.

CONTACT PERSON FOR MORE INFORMATION: For further information and to ascertain what, if any, matters have been added, deleted or postponed, please contact Vanessa A. Countryman from the Office of the Secretary at (202) 551-5400.

Authority: 5 U.S.C. 552b.

Dated: February 8, 2023.
Vanessa A. Countryman,
Secretary.

[FR Doc. 2023-03014 Filed 2-8-23; 4:15 pm]

BILLING CODE 8011-01-P